ENVIRONMENTAL PROTECTION AGENCY

[FRL-9814-6] (EPA-HQ-OA-2013-0124)

Good Neighbor Environmental Board; Notification of Public Advisory Committee Teleconference

AGENCY: Environmental Protection Agency (EPA).

ACTION: Notice. Public Advisory Committee Teleconference.

SUMMARY: Pursuant to the Federal Advisory Committee Act, Public Law 92-463, notice is hereby given that the Good Neighbor Environmental Board (GNEB) will hold a public teleconference on Tuesday, June 4, 2013, Tuesday, August 6, 2013, and Tuesday, October 1, 2013. Each meeting will take place from 12 p.m. to 4 p.m. Eastern Standard Time. The meeting is open to the public. For further information regarding the teleconference and background materials, please contact Mark Joyce at the number listed below.

DATES: Tuesday, June 4, 2013, Tuesday, August 6, 2013, and Tuesday, October 1, 2013. Each meeting will take place from 12 p.m. to 4 p.m. Eastern Standard Time.

SUPPLEMENTARY INFORMATION: Background: GNEB is a federal advisory committee chartered under the Federal Advisory Committee Act, Public Law 92463. GNEB provides advice and recommendations to the President and Congress on environmental and infrastructure issues along the U.S. border with Mexico.

Purpose of Meeting: The purpose of each of these teleconferences will be to discuss the Good Neighbor Environmental Board's Sixteenth Report. The report will focus on ecological restoration in the U.S.-Mexico border region.

General Information: The agenda and meeting materials will be available at http://www.regulations.gov under Docket ID: EPA-HQ-OA-2013-0124. General information about GNEB can be found on its Web site at www.epa.gov/ofacmo/gneb.

If you wish to make oral comments or submit written comments to the Board, please contact Mark Joyce at least five days prior to the meeting. Written comments should be submitted at http://www.regulations.gov under Docket ID: EPA-HQ-OA-2013-0124.

Meeting Access: For information on access or services for individuals with disabilities, please contact Mark Joyce at (202) 564-2130 or email at joyce.mark@epa.gov. To request accommodation of a disability, please contact Mark Joyce at least 10 days prior to the meeting to give EPA as much time as possible to process your request.

Dated: May 7, 2013.
Mark Joyce,
Acting Designated Federal Officer.

[FR Doc. 2013-11873 Filed 5-16-13; 8:45 am]

BILLING CODE 6560-50-P